DEPARTMENT OF AGRICULTURE

Animal and Plant Health Inspection Service

[Docket No. APHIS-2008-0062]

Availability of Site-Specific Environmental Assessment and Pest Risk Assessment for the Interstate Movement of Garbage From Hawaii to Oregon

AGENCY: Animal and Plant Health Inspection Service, USDA.

ACTION: Notice of availability and request for comments.

SUMMARY: We are advising the public that the Animal and Plant Health Inspection Service has prepared a site-specific environmental assessment and pest risk assessment relative to a request to allow the interstate movement of garbage from Hawaii to a landfill in the State of Oregon. The environmental assessment has been prepared to determine whether the request is consistent with the environmental effects and impacts analyzed in our March 2008 regional programmatic environmental assessment as well as to evaluate potential site-specific environmental impacts of the proposed action. The pest risk assessment evaluates the risks associated with the interstate movement of garbage from Hawaii to Oregon. We are making these documents available to the public for review and comment.

DATES: We will consider all comments that we receive on or before September 2, 2008.

ADDRESSES: You may submit comments by either of the following methods:

• Federal eRulemaking Portal: Go to http://www.regulations.gov/fdmspublic/component/main?main=DocketDetail&d=APHIS-2008-0062 to submit or view comments and to view supporting and related materials available electronically.

• Postal Mail/Commercial Delivery: Please send two copies of your comment to Docket No. APHIS-2008-0062, Regulatory Analysis and Development, PPD, APHIS, Station 3A-03.8, 4700 River Road Unit 118, Riverdale, MD 20737-1238. Please state that your comment refers to Docket No. APHIS-2008-0062.

Reading Room: You may read any comments that we receive in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Ms. Shannon Hamm, Associate Deputy Administrator, Policy and Program Development, APHIS, 4700 River Road Unit 20, Riverdale, MD 20737-1231; (301) 734-4957.

SUPPLEMENTARY INFORMATION:

Background

The importation and interstate movement of garbage is regulated by the Animal and Plant Health Inspection Service (APHIS) under 7 CFR 330.400 and 9 CFR 94.5 in order to protect against the introduction into and dissemination within the United States of plant and animal pests and diseases.

On March 13, 2008, we published in the Federal Register (73 FR 13525, Docket No. APHIS-2007-0070) a notice in which we announced the availability, for public review and comment, of a regional programmatic environmental assessment relative to the interstate movement of municipal solid waste from Hawaii to landfills in the States of Idaho, Oregon, and Washington. On June 18, 2008 (73 FR 34700-34701, Docket No. APHIS-2007-0070), we published a follow-up notice in which we announced the availability of our final regional programmatic environmental assessment and finding of no significant impact.

In our March 2008 notice, we stated that as new requests to move municipal solid waste from Hawaii are received, a specific environmental analysis will be prepared relative to each request to determine whether the request is consistent with the environmental effects and impacts analyzed in our regional programmatic environmental assessment. We also stated that the specific environmental analyses prepared for each new request to move municipal solid waste will be made available for a 30-day public comment period, after which APHIS will announce its environmental and pest risk decision regarding the new municipal solid waste movement proposal.

In accordance with the process described in our March 2008 notice, we have prepared a site-specific environmental assessment to ensure that the circumstances surrounding a new request we have received fit within the criteria evaluated in the regional programmatic environmental assessment as well as to evaluate potential site-specific environmental impacts of the proposed action. The site-specific assessment, titled “Site Specific Environmental Assessment for Off Island Transfer Proposal to Transport Municipal Solid Waste from Hawaii to Columbia Ridge Landfill,” is accompanied by a pest risk assessment.

The pest risk assessment, titled “The Risk of Introducing Pests to Gilliam County, Oregon via Hawaiian Plastic-Baled Municipal Solid Waste” (June 2008), evaluates the plant pest risks associated with the interstate movement of garbage from Hawaii to the Columbia Ridge Solid Waste Landfill in Gilliam County, OR.

We are making these documents available to the public for review and comment. We will consider all comments that we receive on or before the date listed under the heading DATES at the beginning of this notice. The environmental assessment and pest risk assessment may be viewed on the Internet on the Regulations.gov Web site or in our reading room (see ADDRESSES above for instructions for accessing Regulations.gov and information on the location and hours of the reading room). You may request paper copies of the documents by calling or writing to the person listed under FOR FURTHER INFORMATION CONTACT. Please refer to the title of the document(s) you wish to receive when requesting copies.

Following the conclusion of the comment period, we will announce our environmental and pest risk decision regarding the new municipal solid waste movement proposal.

Authority: 7 U.S.C. 450, 7701-7772, 7781-7786, and 8301-8317; 21 U.S.C. 136 and 136a; 31 U.S.C. 9701; 7 CFR 2.22, 2.80, and 371.3.

Done in Washington, DC, this 25th day of July 2008.
Kevin Shea,
Acting Administrator, Animal and Plant Health Inspection Service.

[FR Doc. E8-17589 Filed 7-30-08; 8:45 am]

BILLING CODE 3410-34-P